DEPARTMENT OF THE TREASURY

Submission for OMB Review; Comment Request

February 18, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 26, 2004 to be assured of consideration.

Internal Revenue Service (IRS)

OMB Number: 1545-1868.

Regulation Project Number: REG-116664-01 NPRM and Temporary.

Type of Review: Extension.

Title: Guidance to Facilitate Business Electronic Filing.

Description: These regulations remove certain impediments to the electronic filing of business tax returns and other forms. The regulations reduce the number of instances in which taxpayers must attach supporting documents to their tax returns. The regulations also expand slightly the required content of a statement certain taxpayers must submit with their returns to justify deductions for charitable contributions.

Respondents: Business or other for-profit.

Estimated Number of Respondents: 1,000,000.

Estimated Burden Hours Respondent: 15 minutes.

Frequency of Response: Annually.

Estimated Total Reporting Burden: 250,000 hours.

Clearance Officer: Glenn P. Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Treasury PRA Clearance Officer.

[FR Doc. 04-4114 Filed 2-24-04; 8:45 am]

BILLING CODE 4830-01-P